ENVIRONMENTAL PROTECTION AGENCY

40 CFR Part 63

[EPA-HQ-OAR-2010-1042; FRL-9970-08-OAR]

RIN 2060-AT58

National Emission Standards for Hazardous Air Pollutants for Wool Fiberglass Manufacturing; Flame Attenuation Lines

AGENCY: Environmental Protection Agency (EPA).

ACTION: Withdrawal of direct final rule.

SUMMARY: Because the Environmental Protection Agency (EPA) received adverse comment, we are withdrawing the direct final rule for the National Emission Standards for Hazardous Air Pollutants for Wool Fiberglass Manufacturing; Flame Attenuation Lines, published on July 27, 2017.

DATES: Effective October 24, 2017, the EPA withdraws the direct final rule published at 82 FR 34858, on July 27, 2017.

FOR FURTHER INFORMATION CONTACT: For questions about this action, contact Mr. Brian Storey, Sector Policies and Programs Division (D243-04), Office of Air Quality Planning and Standards, U.S. Environmental Protection Agency, Research Triangle Park, North Carolina 27711; telephone number: (919) 541-1103; fax number: (919) 541-4991; and email address: storey.brian@epa.gov.

SUPPLEMENTARY INFORMATION: On July 27, 2017, the EPA published a direct final rule (82 FR 34858) and parallel proposal (82 FR 34910) to amend the National Emission Standards for Hazardous Air Pollutants for Wool Fiberglass Manufacturing to provide affected sources a 1-year extension to comply with the emission limits for flame attenuation lines. We stated in that direct final rule that if we received adverse comment by August 28, 2017, the direct final rule would not take effect and we would publish a timely withdrawal in the Federal Register. We subsequently received adverse comment on that direct final rule and are withdrawing it. We will address those comments in any subsequent final action, which will be based on the parallel proposed rule also published on July 27, 2017. As stated in the direct final rule and parallel proposed rule, we will not institute a second comment period on this action.

Dated: October 18, 2017.
E. Scott Pruitt,
Administrator.

Accordingly, the amendments to the rule published on July 27, 2017 (82 FR 34858), are withdrawn as of October 24, 2017.

[FR Doc. 2017-23054 Filed 10-23-17; 8:45 am]

BILLING CODE 6560-50-P